DEPARTMENT OF LABOR

Occupational Safety and Health Administration

Maritime Advisory Committee for Occupational Safety and Health (MACOSH); Request for Nominations

AGENCY: Occupational Safety and Health Administration, (OSHA), Labor.

ACTION: Request for nominations for persons to serve on MACOSH.

SUMMARY: OSHA intends to re-charter the Maritime Advisory Committee for Occupational Safety and Health (MACOSH), which expires in April 2005. MACOSH advises the Secretary of Labor on matters relating to occupational safety and health programs, new initiatives, and standards for the maritime industries of the United States which include Longshoring, Marine Terminals, and Shipyards. The Committee will consist of 15 members and will be chosen from among a cross-section of individuals who represent the following interests: employers, employees; Federal and State safety and health organizations; professional organizations specializing in occupational safety and health; and national standards setting groups. OSHA invites persons interested in serving on MACOSH to submit their names for consideration for committee membership.

DATES: Nominations for MACOSH membership should be postmarked by August 8, 2005.

ADDRESSES: Nominations for MACOSH membership should be sent to: Dorothy Dougherty, Acting Director, Directorate of Standards and Guidance, Room N 3718, Occupational Safety and Health Administration, U.S. Department of Labor, 200 Constitution Avenue, NW., Washington, DC 20210.

FOR FURTHER INFORMATION CONTACT: Jim Maddux, Director, Office of Maritime, U.S. Department of Labor, Occupational Safety and Health Administration, Room N-3621, 200 Constitution Avenue, NW., Washington, DC 20210; telephone: (202) 693-2086.

SUPPLEMENTARY INFORMATION:

I. Background

OSHA intends to re-charter MACOSH for another two years. MACOSH was established to advise the Secretary on various issues pertaining to providing safe and healthful employment in the maritime industries. The Secretary consults with MACOSH on various related subjects, including: ways to increase the effectiveness of safety and health regulations that apply to the maritime industries, injury and illness prevention, the use of stakeholder partnerships to improve training and outreach initiatives, and to increase the national dialogue on occupational safety and health. In addition, MACOSH provides advice on enforcement initiatives that will help improve the working conditions and the safety and health of men and women employed in the maritime industry.

II. Nominations

OSHA is looking for MACOSH members who have a strong interest in the safety and health of workers in the maritime industry. The Agency is looking for nominees to represent the following interests and categories; employees, employers, State or Federal safety and health organizations, professional organizations, and national standards setting groups.

OSHA seeks a broad-based and diverse membership for MACOSH. Nominations of women and minorities are encouraged. Nominations of new members or renominations of former or current members will be accepted in all categories of membership. Interested persons may nominate themselves or may submit the name of another person who they believe to be interested in and qualified to serve on MACOSH. Nominations may also be submitted by organizations from one of the categories listed above. Nominations should include the name, address, and telephone number of the candidate. Each nomination should include a summary of the candidate's training or experience relating to safety and health in the maritime industry and the interest the candidate represents. In addition to listing the candidate's qualifications to serve on the committee, each nomination should state that the person consents to the nomination and acknowledges the responsibilities of serving on MACOSH.

III. Authority

This document was prepared under the direction of Jonathan L. Snare, Acting Assistant Secretary of Labor for Occupational Safety and Health, U.S. Department of Labor, Washington, DC 20210, pursuant to sections 6(b) and 7(b) of the Occupational Safety and Health Act of 1970 (29 U.S.C. 655, 656), the Federal Advisory Committee Act (5 U.S.C. App. 2) and 29 CFR part 1912.

Signed in Washington, DC this 20th day of June 2005.
Jonathan L. Snare,
Acting Assistant Secretary of Labor.

[FR Doc. 05-12433 Filed 6-22-05; 8:45 am]

BILLING CODE 4510-26-M